DEPARTMENT OF COMMERCE

International Trade Administration

[C-570-054]

Certain Aluminum Foil From the People's Republic of China: Final Results of Countervailing Duty Administrative Review; 2019

AGENCY: Enforcement and Compliance, International Trade Administration, Department of Commerce.

SUMMARY: The Department of Commerce (Commerce) determines that countervailable subsidies are being provided to producers and exporters of certain aluminum foil (aluminum foil) from the People's Republic of China (China). The period of review (POR) is January 1, 2019, through December 31, 2019.

DATES: Applicable December 27, 2021.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

Commerce published the Preliminary Results of this review on July 7, 2021, and invited comments from interested parties.¹ On August 13, 2021, we received timely filed case briefs from the following interested parties: Jiangsu Zhongji Lamination Materials Co., Ltd. (Zhongji); Xiamen Xiashun Aluminum Foil Co., Ltd. (Xiashun); and the Government of China (GOC).² On August 24, 2021, we received a timely filed rebuttal brief from the Aluminum Association Trade Enforcement Working Group (the petitioners).³

¹ See Certain Aluminum Foil from the People's Republic of China: Preliminary Results of Countervailing Duty Administrative Review and Rescission of Review, in Part; 2019, 86 FR 35735 (July 7, 2021) (Preliminary Results), and accompanying Preliminary Decision Memorandum.

² See Zhongji's Case Brief, “Certain Aluminum Foil from the People's Republic of China: Case Brief,” dated August 13, 2021 (Zhonji's Case Brief); Xiashun's Case Brief, “Certain Aluminum Foil from The People's Republic of China—Case Brief,” dated August 13, 2021 (Xiashun's Case Brief); and GOC's Case Brief, “Certain Aluminum Foil from the People's Republic of China: Case Brief,” dated August 13, 2021 (GOC's Case Brief).

³ See Petitioner's Rebuttal Brief, “Certain Aluminum Foil from The People's Republic Of China . . . Petitioners' Rebuttal Brief,” dated August 24, 2021 (the Petitioner's Rebuttal Brief). Individual Members of the Aluminum Association Trade Enforcement Working Group include: JW Aluminum Company, Novelis Corporation, and Reynolds consumer Products LLC.

Scope of the Order

The product covered by this order is aluminum foil from China.⁴ For a complete description of the scope of this order, see the Issues and Decision Memorandum.⁵

⁴ See Certain Aluminum Foil from the People's Republic of China: Amended Final Affirmative Countervailing Duty Determination and Countervailing Duty Order, 76 FR 17360 (April 19, 2018) (Order).

⁵ See Memorandum, “Decision Memorandum for the Final Results of the 2019 Administrative Review of the Countervailing Duty Order on Certain Aluminum Foil from the People's Republic of China,” dated concurrently with, and hereby adopted by, this notice (Issues and Decision Memorandum).

Analysis of Comments Received

All issues raised in interested parties' case briefs are addressed in the Issues and Decision Memorandum. A list of the issues raised by parties to which Commerce responded in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on the comments received and record evidence, we made certain changes from the Preliminary Results with respect to the net countervailable subsidy rate calculated for Xiashun and assigned to companies not selected for individual examination in this review. These changes are explained in the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁶ For a full description of the methodology underlying all of Commerce's conclusions, including any determination that relied upon the use of adverse facts available pursuant to sections 776(a) and (b) of the Act, see the Issues and Decision Memorandum.

⁶ See sections 771(5)(B) and (D) of the Act regarding financial contribution; section 771(5)(E) of the Act regarding benefit; and section 771(5A) of the Act regarding specificity.

Companies Not Selected for Individual Examination

In accordance with 19 CFR 351.221(b)(5), Commerce calculated a countervailable subsidy rate for mandatory respondent Xiashun. Because the rate calculated for Xiashun, the only cooperating mandatory respondent, is above de minimis and not based entirely on facts available, we assigned this rate to other companies subject to this administrative review but not selected for individual examination. This is consistent with the methodology that we use in an investigation to establish the all-others rate, pursuant to section 705(c)(5)(A) of the Act.

Final Results of Administrative Review

We determine that, for the period January 1, 2019, through December 31, 2019, the following net countervailable subsidy rates exist:

Company | Net countervailable subsidy rate (percent ad valorem)
Alcha International Holdings Limited | 14.20
Anhui Maximum Aluminum Industries Company Ltd.; Jiangsu Huafeng Aluminum Industry Co., Ltd.; Jiangsu Zhongji Lamination Materials Co., Ltd.; Jiangsu Zhongji Lamination Materials Co., (HK) Limited; and Shantou Wanshun Package Material Stock Co., Ltd.⁷ | 14.20
Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminum Co., Ltd.; Hangzhou Teemful Aluminum Co., Ltd.; Jiangsu Dingsheng New Materials Joint Stock Co., Ltd.; Luoyang Longding Aluminium Industries Co., Ltd.; and Walson (HK) Trading Co., Limited.⁸ | 14.20
Hunan Suntown Marketing Limited | 14.20
Jiangsu Alcha Aluminum Co., Ltd. | 305.07
SNTO International Trade Limited | 14.20
Suntown Technology Group Corporation Limited | 14.20
Xiamen Xiashun Aluminium Foil Co. Ltd. | 14.20
Yinbang Clad Material Co., Ltd. | 14.20

Disclosure

Commerce intends to disclose the calculations performed for these final results of review within five days of the date of publication of this notice in the Federal Register, in accordance with 19 CFR 351.224(b).

⁷ In the first administrative review of the Order, Commerce found the following companies to be cross-owned: Anhui Maximum Aluminum Industries Company Ltd.; Jiangsu Huafeng Aluminum Industry Co. Ltd.; Jiangsu Zhongji Lamination Materials Co., Ltd.; Jiangsu Zhongji Lamination Materials Co., (HK) Ltd.; Shantou Wanshun Material Stock Co., Ltd.; and Anhui Maximum Aluminum Industries Company Limited. The subsidy rate applies to all cross-owned companies. See Certain Aluminum Foil from the People's Republic of China: Final Results of the Countervailing Duty Administrative Review; 2017-2018, 86 FR 12171 (March 2, 2021).

⁸ In the investigation, Commerce found the following companies to be cross-owned: Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminum Co., Ltd.; Hangzhou Teemful Aluminum Co., Ltd.; Jiangsu Dingsheng New Materials Joint-Stock Co., Ltd.; Luoyang Longding Aluminum Co., Ltd.; and Walson (HK) Trading Co., Limited. The subsidy rate applies to all cross-owned companies. See Order.

Assessment Rate

Pursuant to 19 CFR 351.212(b)(2), Commerce will determine, and U.S. Customs and Border Protection (CBP) shall assess, countervailing duties on all appropriate entries of subject merchandise in accordance with the final results of this review, for the above-listed companies at the applicable ad valorem assessment rates listed. Consistent with its recent notice,⁹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁹ See Notice of Discontinuation of Policy to Issue Liquidation Instructions After 15 Days in Applicable Antidumping and Countervailing Duty Administrative Proceedings, 86 FR 3995 (January 15, 2021).

Cash Deposit Rates

In accordance with section 751(a)(1) of the Act, Commerce intends to instruct CBP to collect cash deposits of estimated countervailing duties in the amounts shown for each of the companies listed above. For all non-reviewed firms, we will instruct CBP to continue to collect cash deposits of estimated countervailing duties at the most recent company-specific or all-others rate applicable to the company, as appropriate. These cash deposits, when imposed, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notice to Interested Parties

These final results are issued and published in accordance with sections 751(a)(1) and 777(i)(1) of the Act, and 19 CFR 351.221(b)(5).

Dated: December 17, 2021.
Ryan Majerus,
Deputy Assistant Secretary for Policy and Negotiations, Performing the Non-Exclusive Functions and Duties of the Assistant Secretary for Enforcement and Compliance.

Appendix I—List of Topics Discussed in the Issues and Decision Memorandum

I. Summary

II. List of Issues

III. Background

IV. Changes Since the Preliminary Results

V. Scope of the Order

VI. Period of Review

VII. Subsidies Valuation Information

VIII. Use of Facts Otherwise Available

IX. Analysis of Programs

X. Discussion of Comments

Comment 1: Whether Commerce Should Continue to Find that Xiamen Xiashun Aluminum Foil Co., Ltd. (Xiashun) Received Countervailable Benefits Under the Policy Loans to Aluminum Foil Producers Program

Comment 2: Whether Commerce Should Include Benefits from Bank Acceptances in the Calculation of Benefits Under the Policy Loans to Aluminum Foil Producers Program

Comment 3: Whether Commerce Should Continue to Make an Adverse Inference to Find that Xiashun Benefited from the Export Buyers Credit Program

Comment 4: Whether Commerce Should Continue to Make Adverse Inferences to Find Financial Contribution and Specificity and to Calculate Benefits Under the Electricity for Less Than Adequate Remuneration (LTAR) Program

Comment 5: Whether Commerce Should Modify the Benchmarks Used to Value Electricity

Comment 6: Whether Commerce Should Continue to Make an Adverse Inference to Find that Primary Aluminum Producers are Authorities

Comment 7: Whether Commerce Should Continue to Make an Adverse Inference to Find that the Primary Aluminum Market in China is Distorted

Comment 8: Whether Commerce Should Modify the Benchmark Used to Value Primary Aluminum

Comment 9: Whether Commerce Should Modify the Ocean Freight Benchmark

XI. Recommendation

[FR Doc. 2021-28043 Filed 12-23-21; 8:45 am]

BILLING CODE 3510-DS-P